OFFICE OF PERSONNEL MANAGEMENT

[Docket ID: OPM-2024-0008]

Submission for Review: Establishment Information Form, DD 1918, Wage Data Collection Form, DD 1919, Wage Data Collection Continuation Form, DD 1919C, 3206-0036

AGENCY: Office of Personnel Management.

ACTION: 30-Day notice and request for comments.

SUMMARY: The Office of Personnel Management (OPM) offers the general public and other Federal agencies the opportunity to comment on an extension of an existing information collection request (ICR), OMB Control 3206-0036: Establishment Information Form (DD 1918); Wage Data Collection Form (DD 1919); and Wage Data Collection Continuation Form (DD 1919C).

DATES: Comments are encouraged and will be accepted until July 31, 2024.

ADDRESSES: Written comments and recommendations for this proposed information collection should be sent within 30 days of publication of this notice to http://www.reginfo.gov/public/do/PRAMain. Find this particular information collection request by selecting “Office of Personnel Management” under “Currently Under Review,” then check “Only Show ICR for Public Comment” checkbox.

FOR FURTHER INFORMATION CONTACT: Ana Paunoiu, by telephone at (202) 606-2858 or by email at paypolicy@opm.gov.

SUPPLEMENTARY INFORMATION: OPM, in accordance with the Paperwork Reduction Act of 1995 (PRA) (44 U.S.C. chapter 35), provides the public with an opportunity to comment on proposed, revised, and continuing collections of information. This helps the Agency assess the impact of its information collection requirements and minimize the public's reporting burden. It also helps the public understand the Agency's information collection requirements and provide the requested data in the desired format.

The Establishment Information Form, the Wage Data Collection Form, and the Wage Data Collection Continuation Form are wage survey forms developed by OPM for use by the Department of Defense to establish prevailing wage rates for Federal Wage System employees. The proposed extension of the information collection was previously published in the Federal Register on March 25, 2024, at 89 FR 20710, allowing for a 60-day public comment period. No relevant comments were received.

The purpose of this notice is to advise the public that OPM is submitting this information collection to the Office of Management and Budget (OMB) and to allow an additional 30 days for public comments. OMB is particularly interested in comments that:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Workforce Policy and Innovation, Office of Personnel Management.

Title: Establishment Information Form, Wage Data Collection Form, and Wage Data Collection Continuation Form.

OMB Number: 3260-0036.

Frequency: Annually.

Affected Public: Private Sector Establishments.

Number of Respondents: 21,760.

Estimated Time per Respondent: 1.5 hours.

Total Burden Hours: 32,640.

Office of Personnel Management.
Kayyonne Marston,
Federal Register Liaison.

[FR Doc. 2024-14182 Filed 6-28-24; 8:45 am]

BILLING CODE 6325-39-P